CORPORATION FOR NATIONAL AND COMMUNITY SERVICE

Agency Information Collection Activities; Submission to the Office of Management and Budget for Review and Approval; Comment Request; Application Package for NCCC Impact Evaluation

AGENCY: The Corporation for National and Community Service.

ACTION: Notice of information collection; request for comment.

SUMMARY: In accordance with the Paperwork Reduction Act of 1995, the Corporation for National and Community Service (operating as AmeriCorps) is proposing a renewal of the existing public information collection request (ICR) entitled NCCC Impact Evaluation with revisions that expand the scope to include COVID-19 vaccine distribution and related activities case studies.

DATES: Written comments must be submitted to the individual and office listed in the ADDRESSES section by November 1, 2021.

ADDRESSES: You may submit comments, identified by the title of the information collection activity, by any of the following methods:

(1) By mail sent to: AmeriCorps, Attention: Melissa Gouge, 250 E Street SW, Washington, DC 20525.

(2) By hand delivery or by courier to the AmeriCorps mailroom at the mail address given in paragraph (1) above, between 9:00 a.m. and 4:00 p.m. Eastern Time, Monday through Friday, except federal holidays.

(3) Electronically through www.regulations.gov.

Comments submitted in response to this notice may be made available to the public through regulations.gov. For this reason, please do not include in your comments information of a confidential nature, such as sensitive personal information or proprietary information. If you send an email comment, your email address will be automatically captured and included as part of the comment that is placed in the public docket and made available on the internet. Please note that responses to this public comment request containing any routine notice about the confidentiality of the communication will be treated as public comment that may be made available to the public, notwithstanding the inclusion of the routine notice.

FOR FURTHER INFORMATION CONTACT: Melissa Gouge, 202-606-6736, or by email at mgouge@cns.gov.

SUPPLEMENTARY INFORMATION: Title of Collection: NCCC Impact Evaluation.

OMB Control Number: 3045-0189.

Type of Review: Renewal.

Respondents/Affected Public: Individuals and Households; Businesses and Organizations.

Total Estimated Number of Additional Responses: 210.

Total Estimated Number of Additional Burden Hours: 305.

Abstract: AmeriCorps NCCC program members have been a crucial part of AmeriCorps' COVID-19 pandemic response, serving as personnel on vaccine distribution mission assignments alongside FEMA and other agencies. No one could have anticipated the COVID-19 pandemic, but we have seized an opportunity to develop questions that build on the existing study but are specific to these ongoing activities.

These activities are an essential element of our agency's COVID-19 pandemic response—one that is also essential to our mission—to improve lives and strengthen communities. To further our mission in a time of increasing uncertainty, we aim to collect information on current activity that must be measured now in order to assess, identify, and make any identified programmatic changes. Peak performance of these projects is crucial to our agency's COVID-19 pandemic response and public safety writ large.

Vaccine delivery is of increasing importance as the COVID-19 pandemic continues an unpredictable course. In time, we hope, the pandemic will subside, but it is crucial that we analyze these mission assignments now to make improvements that will literally save lives. How will this save lives? Currently, just over 50% of Americans are fully vaccinated against the virus (Source: CDC.gov, accessed 08/20/2021). Vaccines have proven to decrease severity of illness and fatalities from COVID-19. AmeriCorps NCCC members are increasing access to vaccines through their service. Programmatic improvements instituted `in real time' to enhance their efforts will lead to even greater access and a healthier public.

Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. All written comments will be available for public inspection on regulations.gov.

Dated: August 27, 2021.
Mary Hyde,
Director, Office of Research and Evaluation.

[FR Doc. 2021-18958 Filed 9-1-21; 8:45 am]

BILLING CODE 6050-28-P